DEPARTMENT OF ENERGY

Federal Energy Regulatory Commission

Combined Notice of Filings #1

Take notice that the Commission received the following exempt wholesale generator filings:

Docket Numbers: EG21-253-000.

Applicants:. Bay Tree Solar, LLC.

Description:. Notice of Self-Certification of Exempt Wholesale Generator Status of Bay Tree Solar, LLC.

Filed Date: 9/16/21.

Accession Number: 20210916-5053.

Comment Date: 5 p.m. ET 10/7/21.

Docket Numbers: EG21-254-000.

Applicants: Bay Tree Lessee, LLC.

Description: Notice of Self-Certification of Exempt Wholesale Generator status of Bay Tree Lessee, LLC.

Filed Date: 9/16/21.

Accession Number: 20210916-5058.

Comment Date: 5 p.m. ET 10/7/21.

Take notice that the Commission received the following electric rate filings:

Docket Numbers: ER21-2214-001.

Applicants: Midcontinent Independent System Operator, Inc.

Description: Compliance filing: 2021-09-16_Att X Financial Improvements and PGIA Compliance Filing to be effective 12/31/9998.

Filed Date: 9/16/21.

Accession Number: 20210916-5043.

Comment Date: 5 p.m. ET 10/7/21.

Docket Numbers: ER21-2892-000.

Applicants: Prairie Wolf Solar, LLC.

Description: Baseline eTariff Filing: Reactive Power Compensation Filing to be effective 11/14/2021.

Filed Date: 9/15/21.

Accession Number: 20210915-5147.

Comment Date: 5 p.m. ET 10/6/21.

Docket Numbers: ER21-2893-000.

Applicants: PJM Interconnection, L.L.C.

Description: § 205(d) Rate Filing: Original WMPA, SA No. 6171; Queue No. AF2-276 to be effective 8/25/2021.

Filed Date: 9/16/21.

Accession Number: 20210916-5015.

Comment Date: 5 pm ET 10/7/21.

Docket Numbers: ER21-2894-000.

Applicants: New York Independent System Operator, Inc., Niagara Mohawk Power Corporation.

Description: § 205(d) Rate Filing: New York Independent System Operator, Inc. submits tariff filing per 35.13(a)(2)(iii): 205 Reimbursement Agreement between NMPC and NYSEG, SA2649 to be effective 8/18/2021.

Filed Date: 9/16/21.

Accession Number: 20210916-5050.

Comment Date: 5 p.m. ET 10/7/21.

Docket Numbers: ER21-2895-000.

Applicants: Cedar Springs Transmission LLC.

Description: Tariff Amendment: Notice of Cancellation of MBR Tariff of Cedar Springs Transmission, LLC to be effective 9/17/2021.

Filed Date: 9/16/21.

Accession Number: 20210916-5072.

Comment Date: 5 p.m. ET 10/7/21.

Docket Numbers: ER21-2896-000.

Applicants: Wheatridge Wind Energy, LLC.

Description: Tariff Amendment: Notice of Cancellation of MBR Tariff of Wheatridge Wind Energy, LLC to be effective 9/17/2021.

Filed Date: 9/16/21.

Accession Number: 20210916-5074.

Comment Date: 5 p.m. ET 10/7/21.

Docket Numbers: ER21-2897-000.

Applicants: PacifiCorp.

Description: § 205(d) Rate Filing: Const Agmt Idaho Falls/Sugarmill 46kV Differential to be effective 11/16/2021.

Filed Date: 9/16/21.

Accession Number: 20210916-5103.

Comment Date: 5 p.m. ET 10/7/21.

Take notice that the Commission received the following qualifying facility filings:

Docket Numbers: QF21-1017-000.

Applicants: Bloom Energy Corporation.

Description: Form 556 of Bloom Energy Corporation.

Filed Date: 6/21/21.

Accession Number: 20210618-5136.

Comment Date: 5 pm ET 10/7/21.

Docket Numbers: QF21-1246-000.

Applicants: Bloom Energy Corporation.

Description: Form 556 of Bloom Energy Corporation [Fairfield].

Filed Date: 9/16/21.

Accession Number: 20210916-5045.

Comment Date: 5 p.m. ET 10/7/21.

Docket Numbers: QF21-1247-000.

Applicants: Bloom Energy Corporation.

Description: Form 556 of Bloom Energy Corporation [4501 Colorado Blvd].

Filed Date: 9/16/21.

Accession Number: 20210916-5060.

Comment Date: 5 p.m. ET 10/7/21.

Take notice that the Commission received the following electric reliability filings:

Docket Numbers: RD21-6-000.

Applicants: North American Electric Reliability Corporation.

Description: Petition of the North American Electric Reliability Corporation for Approval of Proposed Reliability Standards CIP-004-7 and CIP-011-3 Addressing Bulk Electric System Cyber System Information Access Management.

Filed Date: 9/15/21.

Accession Number: 20210915-5199.

Comment Date: 5 p.m. ET 10/6/21.

Take notice that the Commission received the following electric reliability filings:

Docket Numbers: RR20-6-001.

Applicants: North American Electric Reliability Corporation.

Description: Request of the North American Electric Reliability Corporation to expend funds from its Operating Contingency Reserve to fund an early termination option of its Atlanta office lease.

Filed Date: 9/15/21.

Accession Number: 20210915-5195.

Comment Date: 5 pm ET 9/29/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 16, 2021.
Kimberly D. Bose,
Secretary.

[FR Doc. 2021-20492 Filed 9-21-21; 8:45 am]

BILLING CODE 6717-01-P